SMALL BUSINESS ADMINISTRATION

Public Federal Regulatory Enforcement Fairness Hearing; Region VIII Regulatory Fairness Board

The U.S. Small Business Administration (SBA) Region VIII Regulatory Fairness Board and the SBA Office of the National Ombudsman will hold a National Regulatory Fairness Hearing on Tuesday, August 21, 2007, at 9:30 a.m. The forum will take place at the Montana State University Billings, College of Professional Studies and Lifelong Learning, 2804 3rd Avenue North, Billings, MT 59101. The purpose of the meeting is for Business Organizations, Trade Associations, Chambers of Commerce and related organizations serving small business concerns to report experiences regarding unfair or excessive Federal regulatory enforcement issues affecting their members.

Anyone wishing to attend or to make a presentation must contact Rena Carlson, in writing or by fax in order to be placed on the agenda. Rena Carlson, Business Development Specialist, SBA, Montana District Office, 10 West 15th Street, Suite 1100, Helena, MT 59626, phone (406) 441-1086 and fax (202) 481-4195, e-mail: Lorena.carlson@sba.gov.

For more information, see our Web site at http://www.sba.gov/ombudsman.

Matthew Teague,
Committee Management Officer.

[FR Doc. E7-15408 Filed 8-7-07; 8:45 am]

BILLING CODE 8025-01-P